DEPARTMENT OF TRANSPORTATION

Federal Aviation Administration

14 CFR Part 39

[Docket No. FAA-2010-0102; Directorate Identifier 2010-NE-09-AD; Amendment 39-16341; AD 2010-13-10]

RIN 2120-AA64

Airworthiness Directives; Ontic Engineering and Manufacturing, Inc. Propeller Governors, Part Numbers C210776, T210761, D210760, and J210761

AGENCY: Federal Aviation Administration (FAA), DOT.

ACTION: Final rule.

SUMMARY: The FAA is adopting a new airworthiness directive (AD) for certain serial numbers (S/Ns) of Ontic Engineering and Manufacturing, Inc. propeller governors, part numbers (P/Ns) C210776, T210761, D210760, and J210761. This AD requires removal of the affected propeller governors from service. This AD results from three reports received of failed propeller governors. We are issuing this AD to prevent loss of propeller pitch control, damage to the propeller governor, and internal damage to the engine, which could prevent continued safe flight or safe landing.

DATES: This AD becomes effective August 5, 2010. The Director of the Federal Register approved the incorporation by reference of certain publications listed in the regulations as of August 5, 2010.

ADDRESSES:

You can get the service information identified in this AD from Ontic Engineering and Manufacturing, Inc., 20400 Plummer Sreet, Chatsworth, CA 91311, e-mail: Bill.nolan@ontic.com; telephone (818) 725-2323; fax (818) 725-2535; or e-mail: Susan.hunt@ontic.com; telephone (818) 725-2121; fax (818) 725-2535, or on the Web at http://www.ontic.com/pdf/SB-DES-353_Rev_A.pdf.

The Docket Operations office is located at Docket Management Facility, U.S. Department of Transportation, 1200 New Jersey Avenue SE., West Building Ground Floor, Room W12-140, Washington, DC 20590-0001.

FOR FURTHER INFORMATION CONTACT: Roger Pesuit, Aerospace Engineer, Los Angeles Aircraft Certification Office, FAA, Transport Airplane Directorate, 3960 Paramount Blvd., Lakewood, CA 90712; e-mail: roger.pesuit@faa.gov; telephone (562) 627-5251, fax (562) 627-5210.

SUPPLEMENTARY INFORMATION: The FAA proposed to amend 14 CFR part 39 with a proposed AD. The proposed AD applies to certain S/Ns of Ontic Engineering and Manufacturing, Inc. propeller governors, P/Ns C210776, T210761, D210760, and J210761. We published the proposed AD in the Federal Register on March 15, 2010 (75 FR 12148). That action proposed to require removal of the affected propeller governors from service.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We received no comments on the proposal or on the determination of the cost to the public.

Conclusion

We have carefully reviewed the available data and determined that air safety and the public interest require adopting the AD as proposed.

Costs of Compliance

We estimate that this AD will affect 45 propeller governors installed on airplanes of U.S. registry. We also estimate that it will take about four work-hours per airplane to perform the actions, and that the average labor rate is $85 per work-hour. Required repair parts will cost about $842 per propeller governor. Based on these figures, we estimate the total cost of the AD to U.S. operators to be $83,790. Our cost estimate is exclusive of possible warranty coverage.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2010-13-10 Ontic Engineering and Manufacturing, Inc.: Amendment 39-16341. Docket No. FAA-2010-0102; Directorate Identifier 2010-NE-09-AD.

Effective Date

(a) This airworthiness directive (AD) becomes effective August 5, 2010.

Affected ADs

(b) None.

Applicability

(c) This AD applies to Ontic Engineering and Manufacturing, Inc. propeller governors, part numbers (P/Ns) C210776, T210761, D210760, and J210761, as listed by serial number on pages 3 and 4 of Ontic Engineering and Manufacturing, Inc. Mandatory Service Bulletin (MSB) No. SB-DES-353, Revision A, dated December 16, 2009.

(d) These propeller governors are installed on, but not limited to, American Champion Aircraft Corporation Model 7GCAA (governor P/N T210761), Diamond Aircraft Industries, Inc. Model DA-40 (governor P/N C210776), Hawker Beechcraft Model A36 (governor P/N D210760), and Industria Aeronautica Neiva S/A (subsidiary of Embraer) model EMB-202A (governor P/N J210761) airplanes.

Unsafe Condition

(e) This AD results from three reports received of failed propeller governors. We are issuing this AD to prevent loss of propeller pitch control, damage to the propeller governor, and internal damage to the engine, which could prevent continued safe flight or safe landing.

Compliance

(f) You are responsible for having the actions required by this AD performed within 100 flight hours after the effective date of this AD, unless the actions have already been done.

(g) Remove affected propeller governors from service.

(h) After the effective date of this AD, do not install an affected propeller governor unless it has been inspected, repaired, and permanently marked with “SB-DES-353 Rev. A Date * * * .” near the data plate, by Ontic Engineering and Manufacturing, Inc.

Alternative Methods of Compliance

(i) The Manager, Los Angeles Aircraft Certification Office, has the authority to approve alternative methods of compliance for this AD if requested using the procedures found in 14 CFR 39.19.

Related Information

(j) Contact Roger Pesuit, Aerospace Engineer, Los Angeles Aircraft Certification Office, FAA, Transport Airplane Directorate, 3960 Paramount Blvd., Lakewood, CA 90712; e-mail: roger.pesuit@faa.gov; telephone (562) 627-5251, fax (562) 627-5210, for more information about this AD.

Material Incorporated by Reference

(k) You must use Ontic Engineering and Manufacturing, Inc. Mandatory Service Bulletin No. SB-DES-353, Revision A, dated December 16, 2009, to identify the serial numbers of propeller governors affected by this AD. The Director of the Federal Register approved the incorporation by reference of this service bulletin in accordance with 5 U.S.C. 552(a) and 1 CFR part 51. Contact Ontic Engineering and Manufacturing, Inc., 20400 Plummer Street, Chatsworth, CA 91311, e-mail: Bill.nolan@ontic.com; telephone (818) 725-2323; fax (818) 725-2535; or e-mail: Susan.hunt@ontic.com; telephone (818) 725-2121; fax (818) 725-2535, or on the Web at http://www.ontic.com/pdf/SB-DES-353_Rev_A.pdf, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Issued in Burlington, Massachusetts on June 16, 2010.
Diane S. Romanosky,
Acting Manager, Engine and Propeller Directorate, Aircraft Certification Service.

[FR Doc. 2010-15295 Filed 6-30-10; 8:45 am]

BILLING CODE 4910-13-P